DEPARTMENT OF LABOR

Employment and Training Administration

American Recovery and Reinvestment Act of 2009; Notice of Availability of Funds and Solicitation for Grant Applications for Trade Adjustment Assistance Technical Assistance and Outreach Partnership Grants

AGENCY: Employment and Training Administration (ETA), Labor.

ACTION: Notice of Solicitation for Grant Applications (SGA).

Funding Opportunity Number: SGA/DFA PY 09-06.

Catalog of Federal Domestic Assistance (CFDA) Number: 17.260.

SUMMARY: The Department of Labor (DOL, or the Department) announces the availability of approximately $1.2 million in grant funds authorized by the American Recovery and Reinvestment Act of 2009 (the Recovery Act) from the dislocated workers assistance national reserve to provide technical assistance and outreach to dislocated workers impacted by foreign trade. Proposed projects must be developed and implemented through strategic partnerships.

This SGA or solicitation provides background information on the grant opportunity and critical elements required of projects funded under this grant. It also describes the application submission requirements, the process that eligible applicants must use to apply for funds covered by this solicitation, and how grantees will be selected. The eligible applicants for this SGA are National Employer Associations, National Labor Union Organizations, other Labor Union Affiliates, Non-profit Organizations and National Associations with connections to the Trade Adjustment Assistance for Workers (TAA) program or TAA-certified workers. Additional specific eligibility guidance is included in Section III.A under “Eligibility Information.”

DATES: The closing date for receipt of applications under this announcement is April 14, 2010. Applications must be received no later than 4 p.m. (Eastern Time), or submitted electronically by the deadline and in accordance with the instructions in Section IV. C. of this solicitation.

ADDRESSES: Mailed applications must be addressed to the U.S. Department of Labor, Employment and Training Administration, Division of Federal Assistance, Attention: James Stockton, Grant Officer, Reference SGA/DFA PY-09-06, 200 Constitution Avenue, NW., Room N4716, Washington, DC 20210.

For complete “Application and Submission Information” please refer to Section IV of the solicitation.

FOR FURTHER INFORMATION CONTACT: Rahel Bizuayene, Grants Management Specialist, Division of Federal Assistance, at (202)-693-3256 (this is not a toll-free number). Applicants should e-mail all technical questions to Bizuayene.Rahel@dol.gov and must specifically reference SGA/DFA PY 09-06, and along with question(s), include a contact name, fax and phone number.

SUPPLEMENTARY INFORMATION:

Background

Summary

The Department of Labor (DOL or the Department) announces the availability of approximately $1.2 million in grant funds authorized by the American Recovery and Reinvestment Act of 2009 (the Recovery Act) from the dislocated workers assistance national reserve to provide technical assistance and outreach to dislocated workers impacted by foreign trade. Proposed projects must be developed and implemented through strategic partnerships.

This SGA or solicitation provides background information on the grant opportunity and describes the critical elements required of projects funded under this grant. It also describes the application submission requirements, the process that eligible applicants must use to apply for funds covered by this solicitation, and how grantees will be selected. The eligible applicants for this SGA are National Employer Associations, National Labor Union Organizations, other Labor Union Affiliates, Non-profit Organizations and National Associations with connections to the TAA program or TAA-certified workers. Additional specific eligibility guidance is included in Section III.A under “Eligibility Information.”

Supplementary Information

The Department's Employment and Training Administration (ETA is responsible for administering programs to assist dislocated workers under the Workforce Investment Act of 1998 (WIA). This includes workers dislocated because of foreign trade and who are therefore potentially eligible for benefits under the TAA program authorized by the Trade Act of 1974, as amended, a partner in the WIA One-stop delivery system. The Recovery Act expanded the TAA program to help trade-affected workers in the services sector of the economy as well as even greater numbers of workers in the manufacturing sector who have lost their jobs or who are threatened with job losses. The TAA program makes available to these dislocated workers a variety of benefits either before or after their job loss, including employment and case management services, job training, income support, job search and relocation allowances, a tax credit to help pay the costs of health insurance, and a wage supplement to certain reemployed trade-affected workers 50 years of age and older. Under WIA, individuals are able to access services tailored to their employment and training needs through the One-stop delivery system, such as: Assessment of skills and interests, job development, job placement, counseling, training, and supportive services to enable individuals who need such assistance to participate in training for reemployment or to find new employment without enrolling in a training program. While these services may also be available to trade-affected workers through WIA-funded staff, the Recovery Act expanded the TAA program to include additional funding to provide such employment and case management services to this pool of dislocated workers.

The ETA is seeking to better assess State needs and to gauge effective practices that assist workers in specific trade industry sectors in an effort to address high unemployment levels as a result of trade competition, and also to heighten public awareness of services, training, and other benefits available through the TAA program. The Secretary of Labor has made it a priority to “Ensure Good Jobs for Everyone” and to “Help Protect Middle-class and Working Family Incomes.” Therefore, the intent of this SGA is for grantees to provide additional technical assistance and outreach to the dislocated worker populations hardest hit by foreign trade to ensure that workers receive the benefits of the TAA program to achieve this reemployment goal.

The Recovery Act expanded the TAA program to include trade-affected workers in the services sector of the economy. The broadened pool of dislocated workers eligible for TAA under the Recovery Act amendments presents new and unique service delivery challenges for States. For example, identifying and serving service sector workers who work remotely when those workers are not localized in or near the State in which the trade affected employer is based. To better understand the specific TAA challenges, grantees should identify service delivery issues from the industries they intend to target and address how these challenges can be met in order to better serve TAA workers. Applicants for this SGA should determine which manufacturing or services industry or industries will be the focus for this grant. DOL is particularly interested in projects which target the steady increase in unemployment in hard-hit industries, such as the automotive industry, and other sectors of the economy with large numbers of workers covered by TAA certifications (TAA-certified workers), workers in services sector industries who work at one or more remote or fixed locations, and workers who face issues about how TAA eligibility and program requirements interact with benefits available to them through their employers, such as severance packages.

The Department expects that grant funds will be used to provide outreach and direct technical assistance to trade-affected workers and their representatives on the new provisions of the TAA program. Grantees will work with union representatives, State and local officials, company officials, and union and non-union workers to help them to better understand the TAA program. This includes educating the public, and in particular, trade-affected dislocated worker populations in targeted industries who may not understand the TAA petition process and benefit eligibility requirements and/or what it means to be covered by a TAA certification. Further, grant funds may be used to help train those filing petitions to submit more complete and accurate petition information to the ETA. This is essential in helping the Department ensure timely and efficient TAA petition processing. Authorized petitioners include groups of workers, employers, unions and other duly authorized worker representatives, and WIA One-stop delivery system and State workforce agency staff. Successful applicants must be able to demonstrate a unique connection to a large number of workers or other authorized petitioners representing trade-affected populations in the targeted industries, and also have the ability to connect with dislocated workers in these targeted industries. Where possible, the ETA encourages applicants to partner with other workforce development programs in addition to the State agency operating the TAA program and/or the WIA One-stop delivery system and fully describe how the project intends to incorporate these linkages in its service delivery strategy and overall project plan.

Grantees will be expected to describe outcomes and measures by which to determine the success of the project and will be required to report “best practices” or lessons learned as a result of grant activities. Outcomes may include such things as educational materials used to inform employers, union representatives or other worker representatives of the interaction between severance packages and eligibility for TAA benefits, or demonstrated strategies for identifying and serving service sector workers who work remotely and therefore may be more difficult to identify and serve than workers who physically report to a single location. Best practices and/or developed materials must be replicable and serve as a model for the TAA program and similar programs for dislocated workers such as WIA.

I. Funding Opportunity Description

Competitive grants under this SGA will fund one (1) to four (4) projects for a combined total amount of $1.2 million to:

A. Provide direct training or technical assistance to ensure complete and accurate TAA petition information submissions by petitioners, which is the first step for workers to obtain TAA benefits. Direct training or technical assistance means educating the public, union representatives, State and local officials, company officials, and/or workers on eligibility criteria and the petition filing process, including providing information to union and company officials so they can help TAA-eligible workers apply for and receive the benefits to which they are entitled.

B. Improve the service delivery of Rapid Response activities under the WIA to trade-affected workers, assist States to better identify early threats of worker layoffs, and help the State agency operating the TAA program and/or the WIA One-stop delivery system quickly identify workers covered by certified TAA petitions.

C. Help identify and address specific challenges to TAA-certified workers in targeted industries, such as issues related to the interaction of certain employee severance packages with TAA eligibility and program benefits or challenges States have in effectively providing outreach to workers of services sector firms who work remotely, along with any other identified challenges.

D. Establish partnerships with States to develop services and/or service delivery strategies, including the use of National Emergency Grants, for more effective employment and case management in States with large numbers of TAA certifications, in particular manufacturing industries such as automobile manufacturing, or service sector industries that were not covered by the TAA program before enactment of the Recovery Act.

E. Develop and propose outcomes and measures by which to determine the success of the grantee's efforts and report on any “best practices” developed or lessons learned as a result of the grant project. Best practices must be replicable and serve as a model for the TAA program and similar programs for dislocated workers such as WIA.

II. Award Information

A. Award Amount

ETA has approximately $1.2 million available under this competition and expects to fund approximately one (1) to four (4) grants. Individual grant amounts will not exceed $1.2 million. Any grant application with a proposed value greater than $1.2 million will be deemed non-responsive and will not be considered. ETA reserves the right to fund applicants at an amount different from the amount proposed in the applicant's budget based on the availability of funds.

B. Period of Performance

The period of grant performance will be up to 18 months from the date of execution of the grant documents. This performance period includes all necessary implementation and start-up activities. Applicants should plan to fully expend grant funds during the period of performance while ensuring full transparency and accountability for all expenditures.

III. Eligibility Information

A. Eligible Organizations

Eligible applicants under this SGA must demonstrate the capacity to successfully perform the activities specified in Section I of this SGA. Further, the ETA believes that by establishing strong partnerships grantees will ensure that the specific targeted dislocated worker populations are reached for this grant. For this solicitation, the ETA recognizes that National Employer Associations, National Labor Union Organizations or other Union Affiliates, and Non-profit Organizations or National Associations with direct relations to trade-affected populations may be uniquely qualified and may have the established networks to reach specific labor pools in these targeted industries. The ETA is particularly interested in organizations that can communicate directly with large numbers of workers in the different sectors of the economy on which their applications focus. Eligibility is restricted to the following types of entities under this solicitation:

• National Employer Associations;

• National Labor Union Organizations;

• Other Labor Union Affiliates;

• Non-profit Organizations and National Associations with connections to the TAA program or trade-affected workers.

Strategic Partnerships. To be eligible for funding under this solicitation, applicants must demonstrate that the proposed project will be planned and operated through effective strategic partnerships with other organizations that have established connections to trade-affected populations. The strategic partnership(s) must include the State agency operating the TAA program and/or the WIA One-stop delivery system. In addition, the strategic partnership(s) may include at one or more entity(ies) from the following three categories:

• Non-profit Organizations, such as Community Organizations which have direct access to the targeted population;

• Public and Private Employers and Industry-related Organizations;

• Labor Organizations, including but not limited to Labor Unions and Labor-Management Organizations representing the interests of workers in the chosen sectors or industries.

By including these types of organizations in a comprehensive partnership, applicants can ensure that they are maximizing available resources and organizational expertise for the project, and that individual participants in the project have all of the support that they need to successfully meet the goals of the grant. These partners can contribute a wide array of knowledge and help develop activities for the project, and should work in collaboration to ensure appropriate leveraged resources.

B. Cost Sharing

Although cost sharing or matching funds are not required as a condition for this grant, leveraged resources are strongly encouraged and can increase the applicant's score in Section V. A., the evaluation criteria.

C. Veterans Priority

The Jobs for Veterans Act (Pub. L. 107-288) requires priority of service to veterans and spouses of certain veterans for the receipt of employment, training, and placement services in any job training program directly funded, in whole or in part, by DOL. The regulations implementing this priority of service can be found at 20 CFR part 1010. In circumstances where a grant recipient must choose between two qualified candidates for a service, one of whom is a veteran or eligible spouse, the veterans priority of service provisions require that the grant recipient give the veteran or eligible spouse priority of service by first providing him or her that service. To obtain priority of service a veteran or spouse must meet the program's eligibility requirements. Grantees must comply with DOL guidance on veterans' priority. ETA's Training and Employment Guidance Letter (TEGL) No. 10-09 (issued November 10, 2009) provides guidance on implementing priority of service for veterans and eligible spouses in all qualified job training programs funded in whole or in part by DOL. TEGL No. 10-09 is available at http://wdr.doleta.gov/directives/corr_doc.cfm?DOCN=2816.

IV. Application and Submission Information

A. How To Obtain an Application Package

This SGA contains all of the information and links to forms needed to apply for grant funding.

B. Content and Form of Application Submission

The proposal consists of three separate and distinct parts—(1) The cost proposal, (2) the technical proposal, and (3) attachments to the technical proposal. Applications that do not contain all of the three parts or that fail to adhere to the instructions in this section will be considered non-responsive and will not be considered. It is the applicant's responsibility to ensure that the funding amount requested is consistent across all parts and sub-parts of the application.

(1) The Cost Proposal

The Cost Proposal must include the following four items:

• The Standard Form (SF) 424, “Application for Federal Assistance” (available at http://www07.grants.gov/agencies/forms_repository_information.jsp and http://www.doleta.gov/grants/find_grants.cfm). The SF-424 must clearly identify the applicant and be signed by an individual with authority to enter into a grant agreement. Upon confirmation of an award, the individual signing the SF-424 on behalf of the applicant will be considered the authorized representative of the applicant.

• Applicants must supply their D-U-N-S® number in item 5 on the SF-424. All applicants for Federal grant and funding opportunities are required to have a Data Universal Numbering System (D-U-N-S®) number. See Office of Management and Budget (OMB) Notice of Final Policy Issuance, 68 FR 38402, June 27, 2003. The D-U-N-S® number is a nine-digit identification number that uniquely identifies business entities. Obtaining a D-U-N-S® number is easy and there is no charge. To obtain a D-U-N-S® number, applicants can access this Web site: http://www.dunandbradstreet.com or call 1-866-705-5711.

• The SF-424A Budget Information Form is available at: http://www07.grants.gov/agencies/forms_repository_information.jsp and http://www.doleta.gov/grants/find_grants.cfm. In preparing the Budget Information Form, the applicant must provide a concise narrative explanation to support the request, explained in detail below.

Budget Narrative: The budget narrative must provide a description of costs associated with each line item on the SF-424A. It should also include any leveraged resources provided to support grant activities; however, no leveraged resources should be shown on the SF-424 and SF-424A. In addition, the applicant should address precisely how the administrative costs support the project goals. The entire Federal grant amount requested should be included on both the SF-424 and SF-424A. Applicants that fail to provide an SF-424, SF-424A, a D-U-N-S® number, and a budget narrative will be removed from consideration prior to the technical review process.

• Applicants are also encouraged, but not required, to submit OMB Survey N. 1890-0014: Survey on Ensuring Equal Opportunity for Applicants, which can be found under the Grants.gov, Tips and Resources from Grantors, Department of Labor section at http://www07.grants.gov/applicants/tips_resources_from_grantors.jsp#13 (also referred to as Faith Based EEO Survey PDF Form).

(2) The Technical Proposal

The Technical Proposal must demonstrate the applicant's capability to implement the grant project in accordance with the provisions of this solicitation. The guidelines for the content of the Technical Proposal are provided in Section V.A. of this solicitation. The Technical Proposal is limited to 20 double-spaced single-sided pages with 12 point text font and 1 inch margins. Any materials beyond the 20-page limit will not be read. Applicants should number the pages of the Technical Proposal beginning with page number 1. Applicants that do not provide a Technical Proposal in their application will be considered non-responsive and the application will not be considered.

Applications may be submitted electronically on Grants.gov or in hardcopy by mail or hand delivery. These processes are described in further detail below in Section IV.C.

(3) Attachments to the Technical Proposal

In addition to the 20-page Technical Proposal, the applicant must submit attachments to the technical proposal, which include a one-page abstract and a letter of commitment from each project partner. Each letter of commitment must be signed by the respective partner and should describe its roles and responsibilities. The abstract, not to exceed one page, must summarize the proposed project and include applicant name, project title, a description of the area and population to be served, the funding level requested, and a brief description of the grant outcomes. Applicants should not send letters of commitment separately to ETA because letters are tracked through a different system and will not be attached to the application for review. The ETA will not accept or review general letters of support submitted by organizations or individuals.

These additional materials (commitment letters and abstract) do not count against the 20-page limit for the Technical Proposal, but may not exceed 15 pages. Any additional materials beyond the 15-page limit will not be read.

C. Submission Process, Date, Times, and Addresses

The closing date for receipt of applications under this announcement is April 14, 2010. Applications must be received at the address below no later than 4 p.m. (Eastern Time). Applications sent by e-mail, telegram, or facsimile (FAX) will not be accepted.

Applicants submitting proposals in hardcopy must submit an application including an original signed SF-424 and one (1) “copy-ready” version of all other materials required in Section IV.B. above, free of bindings, staples or protruding tabs to ease in the reproduction of the proposal by DOL. Applicants submitting proposals in hard copy also must provide an identical electronic copy of the proposal on compact disc (CD).

Applications that do not meet the conditions set forth in this notice will not be considered. No exceptions to the mailing and delivery requirements set forth in this notice will be granted.

Mailed applications must be addressed to the U.S. Department of Labor, Employment and Training Administration, Division of Federal Assistance, Attention: James Stockton, Grant Officer, Reference SGA/DFA, PY 09-06, 200 Constitution Avenue, NW., Room N4716, Washington, DC 20210. Applicants are advised that mail delivery in the Washington area may be delayed due to mail decontamination procedures. Hand-delivered proposals will be received at the above address. All professional overnight delivery service will be considered to be hand-delivered and must be received at the designated place by the specified closing date and time.

Applicants may apply online through Grants.gov (http://www.grants.gov), however, due to the expected increase in system activity, applicants are encouraged to use an alternate method to submit grant applications during this heightened period of demand. While not mandatory, DOL encourages the submission of applications thru professional overnight delivery service.

Applications that are submitted through Grants.gov must be successfully submitted at http://www.grants.gov no later than 4 p.m. (Eastern Time) on April 14, 2010, and then subsequently validated by Grants.gov. The submission and validation process is described in more detail below. The process can be complicated and time-consuming. Applicants are strongly advised to initiate the process as soon as possible and to plan for time to resolve technical problems, if necessary.

The ETA strongly recommends that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is strongly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted by the deadline and subsequently successfully validated will be considered. It is the sole responsibility of the applicant to ensure a timely submission. While it is not required that an application be successfully validated before the deadline for submission, it is prudent to reserve time before the deadline in case it is necessary to resubmit an application that has not been successfully validated. Therefore, sufficient time should be allotted for submission (two business days) and, if applicable, subsequent time to address errors and receive validation upon resubmission (an additional two business days for each ensuing submission). It is important to note that if sufficient time is not allotted and a rejection notice is received after the due date and time, the application will not be considered.

To ensure consideration, the components of the application must be saved as either .doc, .xls or .pdf files. If submitted in any other format, the applicant bears the risk that compatibility or other issues may limit the ETA's ability to consider the application. The ETA will attempt to open the document but will not take any additional measures in the event of issues with opening. In such cases, the non-conforming application will not be considered for funding.

Applicants are strongly advised to use the plethora of tools and documents, including FAQs, which are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail support@grants.gov.

Late Applications: For applications submitted on Grants.gov, only applications that have been successfully submitted no later than 4 p.m. (Eastern Time) on the closing date and subsequently successfully validated will be considered.

Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service to the addressee not later than one working day prior to the date specified for receipt of applications. Applicants take a significant risk by waiting to the last day to submit by Grants.gov. “Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order 12372, “Intergovernmental Review of Federal Programs.”

E. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

1. Indirect Costs

As specified in OMB Circular Cost Principles, indirect costs are those that have been incurred for common or joint objectives and cannot be readily identified with a particular final cost objective. In order to use grant funds for indirect costs incurred, the applicant must obtain an Indirect Cost Rate Agreement with its cognizant agency either before or shortly after grant award.

An indirect cost rate (ICR) is required when an organization operates under more than one grant or other activity whether Federally-assisted or not. Organizations must use the ICR supplied by the cognizant agency. If an organization requires a new ICR or has a pending ICR, the Grant Officer will award a temporary billing rate for 90 days until a provisional rate can be issued. This rate is based on the fact that an organization has not established an ICR agreement. Within this 90 day period, the organization must submit an acceptable indirect cost proposal to their cognizant Federal agency to obtain a provisional ICR.

2. Administrative Costs

Under this SGA, an entity that receives a grant to carry out a project or program may not use more than 10 percent of the amount of the grant to pay administrative costs associated with the program or project. Administrative costs could be direct or indirect costs, and are defined at 20 CFR 667.220. Administrative costs do not need to be identified separately from program costs on the SF-424A Budget Information Form. They should be discussed in the budget narrative and tracked through the grantee's accounting system. To claim any administrative costs that are also indirect costs, the applicant must obtain an Indirect Cost Rate Agreement from its cognizant Federal agency.

3. Salary and Bonus Limitations

Under Public Law 109-234 and Public Law 111-8, Section 111, none of the funds appropriated in Public Law 111-5 or prior Acts under the heading “Employment and Training” that are available for expenditure on or after June 15, 2006, shall be used by a recipient or sub-recipient of such funds to pay the salary and bonuses of an individual, either as direct costs or indirect costs, at a rate in excess of Executive Level II. These limitations also apply to grants funded under this SGA. The salary and bonus limitation does not apply to vendors providing goods and services as defined in OMB Circular A-133. See TEGL No. 5-06 at http://wdr.doleta.gov/directives/corr_doc.cfm?DOCN=2262.

4. Intellectual Property Rights

The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which is limited to the developer/seller costs of copying and shipping. If revenues are generated through selling products developed with grant funds, including intellectual property, these revenues are program income. Program income is added to the grant and must be expended for allowable grant activities.

If applicable, the following needs to be on all products developed in whole or in part with grant funds:

“This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

F. Other Submission Requirements

Withdrawal of Applications. Applications may be withdrawn by written notice at any time before an award is made.

V. Application Review Information

A. Application Criteria Review Information

This section identifies and describes the criteria that will be used to evaluate the proposals under this grant solicitation. The criteria and respective point values are:

Criterion | Points
Statement of Need | 10
Project Management and Organizational Capacity | 25
Strategic Partnerships and Work Plan | 40
Outcomes and Deliverables | 25
Bonus—Leveraged Resources | 5

1. Statement of Need (10 Points)

The applicant must fully demonstrate a clear understanding of the Trade Act of 1974, as amended, including the provisions added by the Recovery Act, and describe how the scope of the project addresses the stated needs. As such, the project needs to specifically focus on significant worker dislocations in major industries, such as the automotive industry, and clearly demonstrate how the project will target those industries, identify and target relevant stakeholders, and the scope of the project proposed. Given the rapidly changing economic conditions, applicants should use the most current and relevant sources of data available, including TAA certification data, to demonstrate knowledge of layoffs and conditions facing workers in the automotive or other manufacturing and/or service industries. The data should be used to support the intended technical assistance and outreach needs of the trade-affected workers in the targeted industries.

Points for this section will be based on the applicant's comprehensive demonstration of each of the following factors:

a. The applicant must present a clear need for Federal funding of the proposed project for trade-affected workers in the targeted industries by citing data sources and describing the pre-analysis that has been conducted to support the need for the proposed project. (3 points.)

b. Based on the statement of need, the applicant must provide a complete description of the geographic location(s) of the trade-affected populations of the targeted industries and the rationale behind selecting the specific industry or industries for the project. (2 points.)

c. The proposal must briefly describe the problem(s) or issue(s) being faced by trade-affected workers in the targeted industries and the States administering the TAA program for those workers. Examples of specific challenges include, but are not limited to, issues related to the interaction of certain employee severance packages with TAA eligibility and program benefits, or challenges States have in effectively identifying and providing outreach to workers of a services sector firm who work remotely, rather than on the site at a specific facility. The proposal must also show how the applicant intends to: (1) Address the TAA program-related needs of workers in these industries; (2) increase their awareness of the expanded TAA program, and its new eligibility criteria and benefits; and (3) work with and enhance the ability of States to address the identified issue while developing effective service strategies for the trade-affected workers in the targeted industries. (2 points.)

d. The applicant must demonstrate specific knowledge of State unemployment insurance provisions related to trade readjustment allowance eligibility and health coverage tax credit eligibility in the States in which these trade-affected workers in the targeted industries are located. (5 points.)

Applicants may draw from a variety of resources to inform this criterion, including labor market data such as projections, industry data, internal organizational data, and data on the subject population within the context of the national economy.

2. Project Management and Organizational Capacity (25 Points)

The applicant must fully describe its capacity and, if applicable, the capacity of its partners, to effectively staff the proposed project. The application must also fully describe the applicant's fiscal, administrative, and performance management capacity to implement the key components of the project. Scoring under this criterion will be based on the extent to which applicants provide evidence of the following:

a. Staff Capacity (5 points). The applicant should provide strong evidence that the applicant, and if applicable, its partners, will have the staff experience and capability to implement the proposed project. The description of staff capacity should include the proposed staffing pattern for the project, including program management and administrative staff, and program staff experience involved in each local project. The applicant must demonstrate that the role(s) and time commitment for the proposed staff are sufficient to ensure proper direction, management, implementation, and timely completion of the project.

b. Fiscal, Administrative, and Performance Management Capacity (10 points). The application must provide strong evidence that the applicant, and if applicable, its partners, have the fiscal, administrative, and performance management capacity to effectively administer the grant. Discussion of this capacity should include:

(i) A full description of the applicant's capacity, including its systems, processes, and administrative controls that will enable it to comply with Federal rules and regulations related to the grant's fiscal and administrative requirements; (3 points) and

(ii) A full description of the applicant's capacity, including its systems and processes that will support the grantee's activities and ability to develop a “best practices” report. The applicant may cite relationships with the State agency operating the TAA program and/or the WIA One-stop delivery system along with other public workforce systems, as appropriate. (7 points)

c. Applicant's Experience (10 points). The applicant must demonstrate its experience leading or participating significantly in a comprehensive partnership, and the demonstrated experience of the applicant, its required partners, and if applicable, its local affiliates, coalition members, or other established partners, in implementing outreach, technical assistance, and/or best practices initiatives of similar focus, size, and scope. It is important that the applicant relate its experience with the TAA program and identify any interactions with the trade-affected dislocated worker populations. The discussion should include:

i. Specific examples of the applicant's experience in leading or participating significantly in a partnership that included a wide range of stakeholders, including a description of the programmatic goals of the project, and a demonstration of the results achieved by that project. (5 points.)

ii. Specific examples of the applicant's or its partners' knowledge, experience and interaction with the TAA program and TAA-certified workers, and its experience working with State, local, union, employer, or other One-stop delivery system partners. (5 points.)

3. Strategic Partnerships and Work Plan (40 Points)

This criterion is the heart of the proposal, and a successful score in this section will require the applicant to provide a clear explanation of the planned strategy, its strategic use of partnerships, what industries the proposal targets, and how the plan will be implemented. The applicant must provide a detailed description of its plan to do all of the following:

i. Ensure that eligible petitioners are equipped to submit TAA petitions that contain complete and accurate information, which is the first step for workers to obtain TAA benefits, either through direct training or technical assistance. In part, this means educating workers, union representatives, State and local officials, and company officials on eligibility criteria, and the petition filing process, including providing information to union and company officials so they can help TAA-eligible workers with the next steps toward receiving benefits.

ii. Improve the service delivery of Rapid Response activities under the WIA to trade-affected workers, assist States to better identify early threats of worker layoffs, and help the State agency operating the TAA program and/or WIA One-stop delivery system quickly identify workers covered by certified TAA petitions.

iii. Help identify and address specific challenges to TAA-certified workers in the targeted industries such as issues related to the interaction of certain employee severance packages with TAA eligibility and program benefits or challenges States have in effectively providing outreach to workers of a services sector firm who work remotely along with other identifiable challenges.

iv. Establish partnerships with States to develop services and/or service delivery strategies, including the use of National Emergency Grants, for more effective employment and case management in States with large numbers of TAA certifications in industries that were not covered by the TAA program before enactment of the Recovery Act.

Points for this criterion will be awarded for the following factors.

a. Strategy (10 points)

The applicant must provide a cohesive strategy for convening and aligning partners to achieve the project goals as described above. The applicant should fully demonstrate the following:

i. Describe the specific roles of the applicant and project partners at all levels, including the services, expertise, and activities that partners will contribute to the goals of the grant. (4 points.)

ii. Describe the overall strategy for identifying the challenges workers in targeted industries face in obtaining TAA program benefits and efforts to meet those challenges to make TAA program benefits available to them. (3 points.)

iii. Describe any unique qualifications or established networks that allow the applicant to reach specific labor pools and their authorized representatives in these targeted industries. Explain the organization's capabilities to provide more direct outreach and technical support to a greater number of services sector and manufacturing industry workers through its partnerships. (3 points.)

b. Work Plan (30 points)

i. The Work Plan must include a timeline of planned activities and milestones, with an explanatory narrative (5 points). The applicant should fully demonstrate the following:

• A coherent plan that demonstrates the applicant's complete comprehension of all the activities and responsibilities required to implement each phase of the project and achieve projected outcomes;

• The demonstrated feasibility and reasonableness of the timeline for accomplishing all necessary implementation activities;

ii. The Work Plan must include a table detailing the planned activities required to implement each phase of the project. For each activity, include the start date, end date, project partner(s) with primary responsibility for the activity, and key tasks associated with each activity. At key project milestones, list the target dates and associated outcomes. (5 points.)

iii. The applicant must demonstrate that the outreach and technical assistance activities it proposes, as generally described in the Supplementary Information section of this SGA, will help trade-affected workers become more aware of the new provisions of the TAA program and better educated on how to petition for TAA certification and apply for TAA program benefits and services after obtaining that certification. Further, successful applicants must demonstrate how these efforts will help improve the quality of TAA petitions received by the ETA. (10 points.)

iv. The applicant must demonstrate the ability to identify various challenges related to providing TAA program benefits across the States with targeted industries and present a plan to overcome those challenges. This section may include a discussion of case management and related assessment/counseling services available to TAA-certified workers under the WIA as it relates to the provision of such services funded by the TAA program. (5 points.)

v. The Work Plan must demonstrate the methodology by which successful project outcomes will be measured and/or goals completed. This also includes describing research and fact finding methods to describe best practices and lessons learned from the project. (5 points.)

4. Outcomes and Deliverables (25 Points)

Applicants will be evaluated on a full demonstration of the following:

A. A description of the anticipated outcomes, including how the applicant intends to measure outcomes. (2 points.)

B. The extent to which the project outcomes are realistic and consistent with the objectives of the project and the needs of workers in the target industries. (2 points.)

C. How project outcomes will result in capacity building to enable workers in the targeted industries to seek and more effectively benefit from the receipt of TAA. (8 points.)

D. What percentage of workers in the targeted industries will benefit from technical assistance and outreach and how these efforts will effectively serve as a model for States. (3 points.)

E. The ability of the applicant to achieve the stated outcomes within the period of performance. (5 points.)

F. How the applicant intends to identify issues and challenges and use outcome information to identify lessons learned and make best practices available to a wide range of stakeholders. (5 points.)

5. Leveraged Resources (5 Bonus Points)

Applicants may describe any funds and/or other resources that will be leveraged to support grant activities and how these resources will be used to contribute to the proposed outcomes for the project as described in Section V. A. 4. of this solicitation. This includes funds and other resources leveraged from businesses, labor organizations, education and training providers, and/or Federal, State, and local government programs. Applicants will be awarded bonus points on the extent to which they fully demonstrate the amount of leveraged resources provided, the type(s) of leveraged resources provided, the strength of commitment to provide these resources, the breadth and depth of the resources provided, and how well the resources support the proposed grant activities and outcomes.

B. Review and Selection Process

Applications for grants under this solicitation will be accepted after the publication of this announcement until the closing date. A technical review panel will make careful evaluation of applications against the criteria. These criteria are based on the policy goals, priorities, and emphases set forth in this SGA. Up to 105 points may be awarded to an application, based on the required information described in Section V. A. The ranked scores will serve as the primary basis for selection of applications for funding, in conjunction with other factors such as the availability of funds and which proposals are most advantageous to the government. The panel results are advisory in nature and not binding on the Grant Officer, and the Grant Officer may consider any information that comes to his/her attention. The ETA may elect to award the grant(s) with or without discussions with the applicants. Should a grant be awarded without discussions, the award will be based on the applicant's signature on the SF-424, including electronic signature via E-Authentication on http://www.grants.gov, which constitutes a binding offer by the applicant.

VI. Award Administration Information

A. Award Notices

All award notifications will be posted on the ETA Homepage (http://www.doleta.gov). Applicants selected for award will be contacted directly before the grant's execution and non-selected applicants will be notified by mail.

Selection of an organization as a grantee does not constitute approval of the grant application as submitted. Before the actual grant is awarded, DOL/ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The following statutory and administrative standards and provisions may be applicable to the grants awarded under this SGA:

a. Non-Profit Organizations—OMB Circulars A-122 (Cost Principles) and 29 CFR part 95 (Administrative Requirements).

b. Educational Institutions—OMB Circulars A-21 (Cost Principles) and 29 CFR part 95 (Administrative Requirements).

c. State and Local Governments—OMB Circulars A-87 (Cost Principles) and 29 CFR part 97 (Administrative Requirements).

d. Profit Making Commercial Firms—Federal Acquisition Regulation (FAR)-48 CFR part 31 (Cost Principles), and 29 CFR part 95 (Administrative Requirements).

e. All entities must comply with 29 CFR parts 93 (new restrictions on lobbying) and 98 (debarment, suspension and drug-free workplace requirements), and, where applicable, 29 CFR parts 96 (audit requirements) and 99.

f. 29 CFR part 2, subpart D—Equal Treatment in Department of Labor Programs for Religious Organizations, Protection of Religious Liberty of Department of Labor Social Service Providers and Beneficiaries.

g. 29 CFR part 31—Nondiscrimination in Federally Assisted Programs of the Department of Labor—Effectuation of Title VI of the Civil Rights Act of 1964.

h. 29 CFR part 32—Nondiscrimination on the Basis of Handicap in Programs and Activities Receiving or Benefiting from Federal Financial Assistance.

i. 29 CFR part 33—Enforcement of Nondiscrimination on the Basis of Handicap in Programs or Activities Conducted by the Department of Labor.

j. 29 CFR part 35— Nondiscrimination on the Basis of Age in Programs or Activities Receiving Federal Financial Assistance from the Department of Labor.

k. 29 CFR part 36—Nondiscrimination on the Basis of Sex in Education Programs or Activities Receiving Federal Financial Assistance.

l. The American Recovery and Reinvestment Act of 2009, Public Law 111-5, 123 Stat. 115, Division A, Title VIII and Division B, Title I, Subtitle I (February 17, 2009).

m. The Trade Act of 1974, Public Law 93-618, as amended (codified at 19 U.S.C. 2271 et seq.).

n. The Workforce Investment Act of 1998, Public Law 105-220, 112 Stat. 939 (codified as amended at 29 U.S.C. 2801 et seq.) and 20 CFR part 667 (General Fiscal and Administrative Rules).

o. 29 CFR part 29 & 30—Apprenticeship Equal Employment Opportunity in Apprenticeship and Training.

p. 29 CFR part 37—Implementation of the Nondiscrimination and Equal Opportunity Provisions of the Workforce Investment Act of 1998.

q. The Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though section 188 of the Workforce Investment Act contains a general ban on religious discrimination in employment. If you are awarded a grant, you will be provided with information on such an exemption upon request.

r. Ensuring the Health and Safety of Participants Under WIA Section 181(a)(4)—Health and safety standards established under Federal and State law otherwise applicable to working conditions of employees are equally applicable to working conditions of participants engaged in providing technical assistance and other activities. Applicants that are awarded grants through this SGA are reminded that these health and safety standards apply to participants in these grants.

s. In accordance with section 18 of the Lobbying Disclosure Act of 1995 (Pub. L. 104-65) (2 U.S.C. 1611) non-profit entities incorporated under Internal Revenue Service Code section 501(c)(4) that engage in lobbying activities are not eligible to receive Federal funds and grants.

Except as specifically provided in this SGA, the ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of a partner named in the application.

2. The Following American Recovery and Reinvestment Act of 2009 (Pub. L. 111-5) Provisions Apply to Grants Awarded Under This SGA

Prospective applicants are advised that, if they receive an award, they must comply with all requirements of the American Recovery and Reinvestment Act of 2009. Applicants are advised to review the Act and implementing OMB guidance in the development of their proposals. Requirements include, but are not limited to:

a. Adherence to all grant clauses and conditions as they relate to Recovery Act activity.

b. Prohibition on expenditure of funds for activities at any casino or other gambling establishment, aquarium, zoo, golf course or swimming pool.

c. Compliance with the requirements to obtain a D-U-N-S® number and register with the Central Contractor Registry (CCR). ETA has issued additional guidance related to theses reports which can be found in the TEGL No. 29-08, dated June 10, 2009.

d. Submission of required reports in accordance with Section 1512 of the Recovery Act. These reports will be due quarterly within 10 days of the end of the reporting period and are in addition to the ETA-required reports addressed in Section VI.C of this SGA. The ETA will issue additional guidance related to these reports and their submission requirements shortly.

Implementing OMB guidance may be found at http://www.recovery.gov.

C. Reporting

Quarterly financial reports, quarterly progress reports, and MIS data will be submitted by the grantee electronically. The grantee is required to provide the reports and documents listed below:

• Quarterly Financial Reports. A Quarterly Financial Status Report (ETA 9130) is required until such time as all funds have been expended or the grant period has expired. Quarterly reports are due 45 days after the end of each calendar year quarter. Grantees must use DOL's On-Line Electronic Reporting System. Information and instructions on using the system will be provided to grantees.

• Quarterly Performance Reports. The grantee must submit a quarterly progress report within 45 days after the end of each calendar year quarter. In order to submit these quarterly reports, grantees will be expected to track participant-level data on the individuals who are involved in training and other services provided through the grant and report on participant status in a variety of fields and outcome categories, as well as provide narrative information on the status of the grant. The last quarterly progress report that grantees submit will serve as the grant's Final Performance Report. This report should provide both quarterly and cumulative information on the grant's activities. It must summarize project activities, project outcomes, and other deliverables. DOL will provide grantees with formal guidance on the data and other information that is required to be collected and reported on either a regular basis or special request basis. Grantees must agree to meet DOL reporting requirements.

• Record Retention. Applicants should be aware of Federal guidelines on record retention, which require grantees to maintain all records pertaining to grant activities for a period of not less than three years from the time of final grant close-out.

VII. Agency Contacts

For further information regarding this SGA, please contact Rahel Bizuayene, Grants Management Specialist, Division of Federal Assistance, at (202) 693-3256 (this is not a toll-free number). Applicants should e-mail all technical questions to Bizuayene.Rahel@dol.gov and must specifically reference SGA/DFA PY 09-06, and along with question(s), include a contact name, fax and phone number. This announcement is being made available on the ETA Web site at http://www.doleta.gov/grants and at http://www.grants.gov.

VIII. Additional Resources of Interest to Applicants

A. Other Web-Based Resources

DOL maintains a number of Web-based resources that may be of assistance to applicants. America's Service Locator (http://www.servicelocator.org) provides a directory of our nation's One-Stop Career Centers.

IX. Other Information

OMB Information Collection No. 1225-0086, Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, to the attention of Darrin A. King, Departmental Clearance Officer, 200 Constitution Avenue NW, Room N1301, Washington, DC 20210. Comments may also be e-mailed to DOL_PRA_PUBLIC@dol.gov. Please do not return the completed application to this address. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the application is not considered to be confidential.

Please be advised that the Grant Officer for this competition is James Stockton.

Signed at Washington, DC, this 9th day of March, 2010.
Eric Luetkenhaus,
Grant Officer, Employment and Training Administration.

[FR Doc. 2010-5552 Filed 3-12-10; 8:45 am]

BILLING CODE 4510-FN-P